DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received March 10, 2005.

Title, Form, and OMB Number: Medical Information Questionnaire; DSS Form FL 14a; OMB Control Number 0704-0206.

Type of Request: Extension.

Number of Respondents: 11,700.

Responses Per Respondent: 1.

Annual Responses: 11,700.

Average Burden Per Response: 0.6 hours.

Annual Burden Hours: 7,020.

Needs and Uses: The specific objective of a personnel security investigation is to elicit information concerning the loyalty, character, and reliability of the individual being investigated so that the DoD adjudicator may determine if it is clearly consistent with the interests of national security to grant the individual access to classified information (or to continue such access), or to place the individual (or retain them) in a sensitive national security position. Adjudicative determinations are made in accordance with DoD 5200.2-R, “DoD Personnel Security Program,” which requires the DoD adjudicator to consider both potentially disqualifying information and mitigating information when there is an indication that the individual has a history of mental or nervous disorder; use or abuse of prescribed or illegal drugs, such as marijuana, narcotics or barbiturates; or abuse or excessive use of alcohol. Much of the appropriate information which the adjudicator must consider can only be obtained from physicians who have treated the individual. Obtaining such information provides the adjudicator with a complex picture of the individual. Without it, the adjudicator may not be able to make a determination as to whether or not the individual should be granted access to classified information.

Affected Public: Individual or households and business or other for-profit.

Frequency: On occasion.

Respondent's Obligation: Voluntary.

OMB Desk Officer: Mr. Lewis Oleinick.

Written comments and recommendations on the proposed information collection should be sent to Mr. Oleinick at the Office of Management and Budget, Desk Officer for DoD, Room 10236, New Executive Office Building, Washington, DC 20503.

DOD Clearance Officer: Ms. Patricia Toppings.

Written requests for copies of the information collection proposal should be sent to Ms. Toppings, WHS/ESCD/Information Management Division, 1225 South Clark Street, Suite 504, Arlington, VA 22202-4326.

Dated: January 31, 2005.
Patricia L. Toppings,
Alternate OSD Federal Register Liaison Officer, Department of Defense.

[FR Doc. 05-2385 Filed 2-7-05; 8:45 am]

BILLING CODE 5001-06-M